DEPARTMENT OF STATE

[Public Notice 5515]

Shipping Coordinating Committee; Notice of Meeting

The Shipping Coordinating Committee (SHC) will conduct an open meeting at 1 p.m. on Wednesday, September 20, 2006, in Room 6303 of the United States Coast Guard Headquarters Building, 2100 2nd Street, SW., Washington, DC 20593-0001. The primary purpose of the meeting is to begin preparations for the 50th Session of the International Maritime Organization (IMO) Sub-Committee on Stability and Load Lines and on Fishing Vessels Safety to be held at the International Coffee Organization in London, England from April 30th to May 4th 2007.

The primary matters to be considered include:

—Development of explanatory notes for harmonized SOLAS Chapter II-1;

—Revision of the Intact Stability Code;

—Safety of small fishing vessels;

—Development of options to improve effect on ship design and safety of the 1969 TM Convention;

—Guidelines for uniform operating limitations on high-speed craft;

—Revision of resolution A.266 (VIII);

—Review of SPS Code.

Members of the public may attend this meeting up to the seating capacity of the room. Interested persons may seek information by writing to Mr. Paul Cojeen, Commandant (G-PSE), U.S. Coast Guard Headquarters, 2100 Second Street, SW., Room 1308, Washington, DC 20593-0001 or by calling (202) 372-1372.

Due to rigorous scheduling difficulties the Advisory Committee regrets the delay in publication of this notice.

Dated: September 8, 2006.
Michael E. Tousley,
Executive Secretary, Shipping Coordinating Committee, Department of State.

[FR Doc. E6-15256 Filed 9-12-06; 8:45 am]

BILLING CODE 4710-09-P